DEPARTMENT OF AGRICULTURE

Animal and Plant Health Inspection Service

[Docket No. 02-093-1]

Rangeland Grasshopper and Mormon Cricket Suppression Program; Record of Decision Based on Final Environment Impact Statement—2002

AGENCY: Animal and Plant Health Inspection Service, USDA.

ACTION: Notice.

SUMMARY: This notice advises the public of the Animal and Plant Health Inspection Service's record of decision for the Rangeland Grasshopper and Mormon Cricket Suppression Program final environmental impact statement.

ADDRESSES: Copies of the record of decision and the final environmental impact statement on which the record of decision is based are available for public inspection at USDA, room 1141, South Building, 14th Street and Independence Avenue SW., Washington, DC, between 8 a.m. and 4:30 p.m., Monday through Friday, except holidays. To be sure someone is there to help you, please call (202) 690-2817 before coming. The documents may also be viewed on the Internet at http://www.aphis.usda.gov/ppd/es/gh.html.

Copies of the record of decision and the final environmental impact statement may be obtained from:

Environmental Services, PPD, APHIS, 4700 River Road Unit 149, Riverdale, MD 20737-1238, phone (301) 734-8963;

Western Regional Office, PPQ, APHIS, 1629 Blue Spruce Drive, Suite 204, Ft. Collins, CO 80524-5417, phone (970) 494-2531; or

Eastern Regional Office, PPQ, APHIS, 920 Main Campus Drive, Suite 200, Raleigh, NC 27606-5213, phone (919) 716-5576.

FOR FURTHER INFORMATION CONTACT: Mr. Charles L. Brown, National Grasshopper Program Manager, PPQ, APHIS, 4700 River Road Unit 134, Riverdale, MD 20737-1236, phone (301) 734-8247.

SUPPLEMENTARY INFORMATION: This notice advises the public that the Animal and Plant Health Inspection Service (APHIS) has prepared a record of decision based on the Rangeland Grasshopper and Mormon Cricket Suppression Program final environmental impact statement and is making it available to the public. This record of decision has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS” NEPA Implementing Procedures (7 CFR part 372).

Done in Washington, DC, this 15th day of October 2002.
Peter Fernandez,
Acting Administrator, Animal and Plant Health Inspection Service.

[FR Doc. 02-26814 Filed 10-21-02; 8:45 am]

BILLING CODE 3410-34-P